DEPARTMENT OF THE INTERIOR

Bureau of Land Management

[NV-923-1310-FI; NVN-74775; 8-08807; TAS: 14x1109]

Notice of Proposed Reinstatement of Terminated Oil and Gas Lease; Nevada

AGENCY: Bureau of Land Management, Interior.

ACTION: Notice.

SUMMARY: Pursuant to the provisions of 30 U.S.C. 188(d) and (e), and 43 CFR 3108.2-3(a) and (b)(1), a petition for reinstatement of oil and gas lease NVN-74775 for lands in Eureka County, Nevada, was timely filed and was accompanied by all the required rentals accruing from August 1, 2006, the date of termination. No valid lease has been issued affecting the lands. The lessee, Newmont Mining Corporation has agreed to new lease terms for rentals and royalties at rates of $10 per acre or fraction thereof and 16⅔ percent, respectively. Newmont Mining Corporation has paid the required $500 administrative fee and has reimbursed the Bureau of Land Management (BLM) for the cost of this Federal Register notice. Newmont Mining Corporation has met all the requirements for reinstatement of the lease as set out in Sections 31(d) and (e) of the Mineral Leasing Act of 1920 (30 U.S.C. 188), and the BLM is proposing to reinstate the lease effective August 1, 2006, subject to the original terms and conditions of the lease and the increased rental and royalty rates cited above.

FOR FURTHER INFORMATION CONTACT: Chris Pulliam, BLM Nevada State Office, 775-861-6506.

Authority: 43 CFR 3108.2-3(a).

Dated: June 18, 2008.
Gary Johnson,
Deputy State Director, Minerals Management.

[FR Doc. E8-14977 Filed 7-1-08; 8:45 am]

BILLING CODE 4310-HC-P